DEPARTMENT OF THE INTERIOR

National Park Service

[NPS-WASO-NRNHL-DTS#-28182; PPWOCRADI0, PCU00RP14.R50000]

National Register of Historic Places; Notification of Pending Nominations and Related Actions

AGENCY: National Park Service, Interior.

ACTION: Notice.

SUMMARY: The National Park Service is soliciting comments on the significance of properties nominated before June 1, 2019, for listing or related actions in the National Register of Historic Places.

DATES: Comments should be submitted by July 5, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before June 1, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Garland County

Hot Springs Central Avenue Historic District (Boundary Decrease), Central Ave., from Prospect to Park Sts., Hot Springs, BC100004164

LOUISIANA

East Baton Rouge Parish, Courthouse Office Building

(Non-Residential Mid-Century Modern Architecture in Baton Rouge, 1945-1975 MPS), 233 St. Ferdinand St., Baton Rouge, MP100004150

St. Tammany Parish

Claiborne Cottage Hotel, 19130 Rogers Ln., Covington, SG100004152

MICHIGAN

Monroe County

St. Mary's Academy Historic District, (City of Monroe MRA), 610 W Elm Ave., Monroe, 82005047

Oakland County

Oxford Downtown Historic District, Washington St./MI-24 and Burdick St., Oxford, SG100004158

MISSISSIPPI

Lincoln County

Ruston Power and Light Plant, 300 E Mississippi Ave., Ruston, SG100004151

NEW YORK

Onondaga County

Whedon-Schumacher House, 365 W Onondaga St., Syracuse, SG100004182

Rockland County

Pig Knoll School, 584 NY 306, Pomona, SG100004183

OKLAHOMA

Garfield County

Enid Downtown Historic District (Boundary Increase), Roughly bounded by Maple Ave., 2nd St., Cherokee Ave., and Adams St., Enid, BC100004167

Kay County

Marland, Charlotte, House, 919 E Grand Ave., Ponca City, SG100004168

First Presbyterian Church, 1505 E Grand Ave., Ponca City, SG100004169

Cleary, Jack and Helen, House, 13 Hillcrest Dr., Ponca City, SG100004170

Marland Estate, Inc. Gatehouse, 747 N 14th St., Ponca City, SG100004171

Ponca City Milling Company Elevator, 114 W Central Ave., Ponca City, SG100004172

Ponca City Municipal Airport Hangar, 2231 Waverly St., Ponca City, SG100004173

Ponca City Power Plant, 1420 N Union St., Ponca City, SG100004174

Temple Emanuel, 1201 E Highland Ave., Ponca City, SG100004175

Muskogee County

First Church of Christ, Scientist, 302 N 7th St., Muskogee, SG100004176

Hotel Muskogee, 26 W Broadway St., Muskogee, SG100004177

Oklahoma County

Capitol Hill Commercial Historic District, 100-400 SW 25th St./W, Commercial Ave., Oklahoma City, SG100004178

Stonegate Elementary School, 2525 NW 112th St., Oklahoma City, SG100004179

OREGON

Multnomah County

Amundsen, Roy E. and Hildur L., House, 477 NW Overlook Ave., Gresham, SG100004161

PENNSYLVANIA

Cambria County

Ebensburg Historic District, Bounded Roughly by Highland Ave., West St., Sugar St., and Triumph St., Ebensburg, SG100004163

VERMONT

Caledonia County

Lower Waterford Congregational Church, (Religious Buildings, Sites and Structures in Vermont MPS), 63 Lower Waterford Rd., Waterford, MP100004181

WISCONSIN

Milwaukee County

Jones-Hill House, 2463 N Palmer St., Milwaukee, SG100004165

A request for removal has been made for the following resource:

ARIZONA

Coconino County

Mormon Lake Lookout Cabin, (National Forest Fire Lookouts in the Southwestern Region TR), Coconino National Forest, Mormon Lake vicinity, OT87002459

Additional documentation has been received for the following resources:

MICHIGAN

Midland County

Greene, George, House, (Residential Architecture of Alden B. Dow in Midland 1933—1938 MPS), 115 W Sugnet, Midland, AD89001441

OKLAHOMA

Garfield County

Enid Downtown Historic District, Roughly bounded by Maple Ave., 2nd St., Cherokee Ave., and Adams St., Enid, AD07001265

OREGON

Multnomah County

Irvington Historic District, Roughly bounded by NE Fremont, NE 27th Ave., NE Broadway, NE 7th Ave., Portland, AD10000850

PENNSYLVANIA

Allegheny County

Heinz, H.J., Company, Roughly bounded by Chestnut St., River Ave., S. Canal St., Progress St. and Heinz, modern Manufacturing Facilities, Pittsburgh, AD02000774

Nomination submitted by Federal Preservation Officers:

The State Historic Preservation Officer reviewed the following nomination and responded to the Federal Preservation Officer within 45 days of receipt of the nomination and supports listing the property in the National Register of Historic Places.

CALIFORNIA

San Bernardino County

Vulcan Mine Historic District, 5.28 mi, E of Kelbaker Rd., on Vulcan Mine Rd., Kelso vicinity, SG100004180

Authority: Section 60.13 of 36 CFR part 60.

Dated: June 3, 2019.
Christopher Hetzel,
Acting Chief, National Register of Historic Places/National Historic Landmarks Program.

[FR Doc. 2019-12932 Filed 6-18-19; 8:45 am]

BILLING CODE 4312-52-P